DEPARTMENT OF JUSTICE

Office of Justice Programs

[OJP (OJJDP) Docket No. 1697]

Webinar Meeting of the Federal Advisory Committee on Juvenile Justice

AGENCY: Office of Juvenile Justice and Delinquency Prevention, DOJ.

ACTION: Notice of meeting.

SUMMARY: The Office of Juvenile Justice and Delinquency Prevention (OJJDP) has scheduled a meeting of the Federal Advisory Committee on Juvenile Justice (FACJJ).

Dates and Location: The meeting will take place on Monday, October 19, 2015 from 9:30 a.m.-5:30 p.m. and Tuesday, October 20, 2015 from 9:30 a.m.-3:00 p.m. The meeting is scheduled at the Office of Justice Programs at 810 7th St. NW., in the Main 3rd floor Conference Room in Washington, DC.

FOR FURTHER INFORMATION CONTACT: Scott Pestridge, Acting Designated Federal Official, OJJDP, Scott.Pestridge@ojp.usdoj.gov or (202) 514-5655. [This is not a toll-free number.]

SUPPLEMENTARY INFORMATION: The Federal Advisory Committee on Juvenile Justice (FACJJ), established pursuant to section 3(2)A of the Federal Advisory Committee Act (5 U.S.C. App. 2), will meet to carry out its advisory functions under section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to state perspectives on the operation of OJJDP and Federal legislation pertaining to juvenile justice and delinquency prevention. More information on the FACJJ may be found at www.facjj.org.

Meeting Agenda: The proposed agenda will include: (1) Introductions/Welcome of New Members; (2) Remarks from and FACJJ discussion with Robert Listenbee, OJJDP Administrator; (3) FACJJ Subcommittee Meetings (Legislation; Expungement/Sealing of Juvenile Court Records; Research/Publications) with Reports to Full Committee; (4) FACJJ Administrative Business; (5) Next Steps; and Meeting Adjournment. Note: Subcommittee working meetings, anticipated to take place on Monday, October 19th in the afternoon, will not be open to the public.

Registration: To attend as an observer, members of the public must pre-register online. Interested persons must link to the web registration through www.facjj.org no later than Wednesday, October 14, 2015. Should problems arise with web registration, please contact Scott Peton, Senior Meeting Planner at (240) 432-3014. Please include name, title, organization or other affiliation, full address and phone, fax, and email information and send to his attention either by fax to 866-854-6619 or by email speton@aeioonline.com. Note that these are not toll-free telephone numbers. Also, photo identification will be required for admission to the meeting. Additional identification documents may be required. Meeting space is limited.

Written Comments: Interested parties may submit written comments by email message in advance of the meeting to Scott Pestridge, Acting Designated Federal Official, at Scott.Pestridge@ojp.usdoj.gov no later than Wednesday, October 14, 2015. In the alternative, interested parties may fax comments to (202) 353-9093 and contact Marshall D. Edwards at (202) 514-0929 to ensure that they are received. [These are not toll-free numbers.]

Robert L. Listenbee,
Administrator, Office of Juvenile Justice and Delinquency Prevention.

[FR Doc. 2015-24427 Filed 9-24-15; 8:45 am]

BILLING CODE 4410-18-P